DEPARTMENT OF COMMERCE

Foreign-Trade Zones Board

[Order No. 1867]

Expansion and Reorganization of Foreign-Trade Zone 33 Pittsburgh, PA

Pursuant to its authority under the Foreign-Trade Zones Act of June 18, 1934, as amended (19 U.S.C. 81a-81u), the Foreign-Trade Zones Board (the Board) adopts the following Order:

Whereas, the Regional Industrial Development Corporation of Southwestern Pennsylvania, grantee of Foreign-Trade Zone 33, submitted an application to the Board for authority to reorganize and expand FTZ 33, to remove acreage from Sites 1, 3, 4, 8, 10, 13, 14 and 16, to expand existing Sites 4 and 10, and to add a new site (Site 18) in the Pittsburgh, Pennsylvania, area, adjacent to the Pittsburgh Customs and Border Protection port of entry (FTZ Docket 75-2011, filed 11/16/11);

Whereas, notice inviting public comment has been given in the Federal Register (76 FR 72673-72674, 11/25/11) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 33 is approved, subject to the FTZ Act and the Board's regulations, including Section 400.13, to the Board's standard 2,000-acre activation limit, and to a sunset provision that would terminate authority on October 31, 2017 for Site 18 if no activity has occurred under FTZ procedures before that date. Sites 6-17 remain subject to a sunset provision that would terminate authority on February 28, 2015 where no activity has occurred under FTZ procedures before that date.

Signed at Washington, DC, this 5th day of November 2012.
Paul Piquado,
Assistant Secretary of Commerce for Import Administration, Alternate Chairman, Foreign-Trade Zones Board.

ATTEST:

Andrew McGilvray,
Executive Secretary.

[FR Doc. 2012-28088 Filed 11-19-12; 8:45 am]

BILLING CODE P